FEDERAL ENERGY REGULATORY COMMISSION

[Docket Nos. PF04-2-000 and PF04-5-000]

BP Crown Landing, LLC and Texas Eastern Transmission, LP; Notice of Additional Scoping Meeting for the Proposed Crown Landing LNG and Logan Lateral Projects

May 26, 2004.

This notice announces an additional public scoping meeting regarding the Crown Landing LNG and Logan Lateral Projects. This meeting is scheduled at the request of the Delaware Department of Natural Resources and Environmental Control. Previous public scoping meetings were held on May 5 and 6, 2004, in Chester Township, Pennsylvania, and Swedesboro, New Jersey, respectively.

The location and time of the public scoping meeting is as follows: Wednesday, June 9, 2004, 7 p.m. (e.s.t.); Holiday Inn, 630 Naamans Road, Claymont, DE 19703; (302) 791-4603.

FERC staff is preparing an environmental impact statement (EIS) that will discuss the environmental impacts of BP Crown Landing, LLC's (Crown Landing) Crown Landing LNG Project located in Gloucester County, New Jersey and New Castle County, Delaware. The EIS will also address the associated Texas Eastern Transmission, LP's (Texas Eastern) Logan Lateral Project in Gloucester County, New Jersey and Delaware County, Pennsylvania.

On April 19, 2004, the staff of the Federal Energy Regulatory Commission (FERC or Commission) issued a Notice of Intent to Prepare an Environmental Impact Statement for the Proposed Crown Landing LNG and Logan Lateral Projects, Request for Comments on Environmental Issues, and Notice of Public Scoping Meeting (Notice of Intent to Prepare EIS).

The Notice of Intent to Prepare EIS is attached for those who have been added to our mailing list since the first notice was issued. Those who have previously received the Notice of Intent to Prepare EIS will not get the attachment. However, the document can be viewed at the Commission's Internet Web site. See Availability of Additional Information at the end of this notice.

The public scoping meeting to be held on June 9, 2004, in Claymont, Delaware is designed to provide another opportunity to offer comments on the proposed projects. Interested groups and individuals are encouraged to attend these meetings and to present comments on the environmental issues they believe should be addressed in the EIS. Transcripts of the meetings will be made so that your comments will be accurately recorded. Please note that the scoping period will close on June 21, 2004.

Comments may be submitted in written form or verbally. Further details on how to submit written comments are provided in the Notice of Intent to Prepare EIS.

Availability of Additional Information

Additional information about the project is available from the Commission's Office of External Affairs at 1-866-208-FERC (3372) or on the FERC Internet Web site (http://www.ferc.gov). Using the “eLibrary” link, select “General Search” from the eLibrary menu, enter the selected date range and “Docket Number” (i.e., PF04-2-000 or PF04-5-000), and follow the instructions. Searches may also be done using the phrase “Crown Landing LNG” or “Logan Lateral” in the “Text Search” field. For assistance with access to eLibrary, the helpline can be reached at 1-866-208-3676, TTY (202) 502-8659, or at FERCOnlineSupport@ ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Crown Landing has established an Internet Web site for its project at http://www.bpcrownlanding.com. The Web site includes a description of the project, maps and photographs of the proposed site, information on LNG, and links to related documents. Texas Eastern has also established a Web site for its project at http://www.degt-loganlateral.com.

Magalie R. Salas,
Secretary.

[FR Doc. E4-1244 Filed 6-3-04; 8:45 am]

BILLING CODE 6717-01-P